DEPARTMENT OF TRANSPORTATION

Federal Aviation Administration

Public Notice for Waiver of Aeronautical Land-Use Assurance; Otsego County Regional Airport; Gaylord, MI

AGENCY: Federal Aviation Administration, DOT.

ACTION: Notice of intent of waiver with respect to land.

SUMMARY: The Federal Aviation Administration (FAA) is considering a proposal to change a portion of the airport from aeronautical use to non-aeronautical use and to authorize the sale of the airport property. The proposal consists of three parcels: Parcel A is 1.42 acres, Parcel B is 1.41 acres and Parcel C is 0.81 acres, totaling approximately 3.64 acres. Current use and present condition is abandoned dwelling and associated vacant land. The land was part of the original airport property and was not purchased with federal funds. There are no impacts to the airport by allowing the airport to dispose of the property.

The proposed land will be used to enhance the infrastructure surrounding the airport by developing commercial businesses. Approval does not constitute a commitment by the FAA to financially assist in the disposal of the subject airport property nor a determination of eligibility for grant-in-aid funding from the FAA. The disposition of proceeds from the disposal of the airport property will be in accordance FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before July 23, 2003.

FOR FURTHER INFORMATION CONTACT: Ms. Stephanie Swann, Program Manager, Federal Aviation Administration, Great Lakes Region, Detroit Airports District Office, DET ADO-613, Metro Airport Center, 11677 South Wayne Road, Suite 107, Romulus, Michigan 48174. Telephone Number: 734-229-2945/FAX Number: 734-229-2950.

SUPPLEMENTARY INFORMATION: Following is a legal description of the property located in Gaylord, Otsego County, Michigan, and described as follows:

Parcel “A”: A parcel of land in the NE ¼ of Section 8, T30N-R3W, Bagley Township, Otsego County, Michigan described as: Beginning at the NE corner of said Section 8; Thence South 00 degrees 16′27″ E, 208.00′ along the East line of said Section 8; thence North 89 degrees 58′40″ W 295.93′; thence North 00 degrees 54′32″ W, 208.03′; thence South 89 degrees 58′40″ E, 298.23′ along the North line of said Section 8 to the Point of Beginning, containing 1.42 acres, more or less, and being subject to an easement for highway purposes over and across the Northerly 33′ and Easterly 40′ thereof. Said parcel contains approximately 1.42 acres.

Parcel “B”: A parcel of land in the NE ¼ of Section 8, T30N-R3W, Bagley Township, Otsego County, Michigan, described as: Commencing at the NE corner of said Section 8; thence South 00 degrees 16′27″ E, 208.00′ along the East line of said Section 8 to the Point of Beginning; thence continuing South 00 degrees 16′27″ E, 208.00′ along the East line of said Section 8; thence North 89 degrees 58′40″ W, 293.63′; thence North 00 degrees 54′32″ E, 208.03′; thence South 89 degrees 58′40″ E, 295.93′ to the Point of Beginning, containing 1.41 acres more or less, and being subject to an easement for highway purposes over and across the Easterly 40′ thereof. Said parcel contains approximately 1.41 acres.

Parcel “C”: A parcel of land in the NE ¼ of Section 8, T30N-R3W, Bagley Township, Otsego County, Michigan, described as: Commencing at the NE corner of Said Section 8; thence South 00 degrees 16′27″ E, 416.00′ along the East line of said Section 8 to the Point of Beginning; thence continuing South 00 degrees 16′27″ E, 120.00′ along the East line of said Section 8; thence North 89 degrees 58′40″ E, 293.29′; thence North 00 degrees 54′-32″ W, 120.02′; thence South 89 degrees 58′40″ E, 293.62′ to the Point of Beginning, containing 0.81 acres, more or less, and being subject to an easement for highway purposes over and across the Easterly 40′ thereof. Said parcel contains approximately 0.81 acres.

Issued in Romulus, Michigan on June 2, 2003.
Irene R. Porter,
Manager, Detroit Airports District Office, FAA, Great Lakes Region.

[FR Doc. 03-18389 Filed 7-22-03; 8:45 am]

BILLING CODE 4910-13-M